FEDERAL TRADE COMMISSION

16 CFR Part 455

Used Motor Vehicle Trade Regulation Rule

AGENCY: Federal Trade Commission.

ACTION: Extension of time period within which to submit comments.

SUMMARY: On December 17, 2012, the Federal Trade Commission (“FTC” or “Commission”) published a Federal Register notice soliciting public comments in connection with its issuance of a Notice of Proposed Rulemaking (“NPR”) concerning proposed changes to the Used Motor Vehicle Trade Regulation Rule (“Used Car Rule” or “Rule”). The notice stated that comments must be received on or before February 11, 2013. In response to several requests to extend the comment period, the Commission has decided to extend the comment period until March 13, 2013.

DATES: Comments addressing the Used Car Rule must be received on or before March 13, 2013.

ADDRESSES: Interested parties are invited to submit written comments electronically or in paper form. For important information concerning the comments you file, please review the SUPPLEMENTARY INFORMATION section below. Comments in electronic form should be filed at the following electronic address: https://ftcpublic.commentworks.com/ftc/usedcarrulenprm by following the instructions on the web-based form. Comments in paper form should be mailed or delivered to the following address: Federal Trade Commission, Office of the Secretary, Room H-113 (Annex T), 600 Pennsylvania Avenue NW., Washington, DC 20580, in the manner detailed in the SUPPLEMENTARY INFORMATION section below.

FOR FURTHER INFORMATION CONTACT: John C. Hallerud, (312) 960-5634, Attorney, Midwest Region, Federal Trade Commission, 55 West Monroe Street, Suite 1825, Chicago, IL 60603.

SUPPLEMENTARY INFORMATION: The Commission's December 17, 2012, Federal Register notice seeks comments on proposed changes to the Rule described in the NPR.¹ The NPR addresses the comments received during its review and invites public comment on the following four proposed changes to the Buyers Guide: Adding boxes to the back of the Buyers Guide where dealers would have the option to indicate manufacturers' and other third-party warranties; adding a statement to the Buyers Guide encouraging consumers to seek vehicle history information and directing consumers to an FTC Web site for more information about vehicle histories; adding catalytic converters and airbags to the List of Systems on the back of the Buyers Guide; and adding a statement in Spanish to the English Buyers Guide directing consumers who cannot read the Buyers Guide in English to ask for a copy of it in Spanish.

¹ 77 FR 7476 (Dec. 17, 2012).

The Commission has received letters from the Chair of the Automobiles Working Group of the National Association of Attorneys General, Consumers for Auto Reliability and Safety, the National Association of Consumer Advocates, the Katharine & George Alexander Community Law Center, Santa Clara University School of Law, and National Vehicle Service requesting that the comment period be extended.² Among other reasons supporting the request, these organizations cite their need to coordinate their efforts in researching and developing comments to address issues raised by the NPR.

² The letters are available on the Commission's Web site at: http://ftc.gov/os/comments/usedcarrulenprm/index.shtm.

Based on the arguments raised in these requests, the Commission believes that an extension of the initial sixty-day comment period until March 13, 2013, is reasonable. Accordingly, the Commission has decided to extend the comment period set forth in the December 17, 2012, Federal Register notice until March 13, 2013.

Interested parties are invited to submit written comments electronically or in paper form. Comments should refer to “Used Car Rule Regulatory Review, Project No. P087604” to facilitate the organization of comments. Please note that your comment—including your name and your state—will be placed on the public record of this proceeding, including on the publicly accessible FTC Web site, at http://www.ftc.gov/os/publiccomments.shtm.

Because comments will be made public, they should not include any sensitive personal information, such as any individual's Social Security Number; date of birth; driver's license number or other state identification number, or foreign country equivalent; passport number; financial account number; or credit or debit card number. Comments also should not include any sensitive health information, such as medical records or other individually identifiable health information. In addition, comments should not include “[t]rade secret or any commercial or financial information which is obtained from any person and which is privileged or confidential” as provided in § 6(f) of the Federal Trade Commission Act (“FTC Act”), 15 U.S.C. 46(f), and FTC Rule 4.10(a)(2), 16 CFR 4.10(a)(2). Comments containing matter for which confidential treatment is requested must be filed in paper form, must be clearly labeled “Confidential,” and must comply with FTC Rule 4.9(c).³

³ The comment must be accompanied by an explicit request for confidential treatment, including the factual and legal basis for the request, and must identify the specific portions of the comment to be withheld from the public record. The request will be granted or denied by the Commission's General Counsel, consistent with applicable law and the public interest. See FTC Rule 4.9(c), 16 CFR 4.9(c).

Because paper mail addressed to the FTC is subject to delay due to heightened security screening, please consider submitting your comments in electronic form. Comments filed in electronic form should be submitted by using the following weblink: https://ftcpublic.commentworks.com/ftc/usedcarrulenprm and following the instructions on the web-based form. To ensure that the Commission considers an electronic comment, you must file it on the web-based form at the weblink https://ftcpublic.commentworks.com/ftc/usedcarrulenprm. If this Notice appears at http://www.regulations.gov/#!home;tab=search, you may also file an electronic comment through that Web site. The Commission will consider all comments that regulations.gov forwards to it. You may also visit the FTC Web site at http://www.ftc.gov to read the Notice and the news release describing it.

A comment filed in paper form should include the “Used Car Rule Regulatory Review, Project No. P087604” reference both in the text and on the envelope, and should be mailed or delivered to the following address: Federal Trade Commission, Office of the Secretary, Room H-113 (Annex T), 600 Pennsylvania Avenue NW., Washington, DC 20580. The FTC requests that any comment filed in paper form be sent by courier or overnight service, if possible, to avoid security related delays.

The FTC Act and other laws that the Commission administers permit the collection of public comments to consider and use in this proceeding as appropriate. The Commission will consider all timely and responsive public comments that it receives, whether filed in paper or electronic form. Comments received will be available to the public on the FTC Web site, to the extent practicable, at http://www.ftc.gov/os/publiccomments.shtm. As a matter of discretion, the FTC makes every effort to remove home contact information for individuals from the public comments it receives before placing those comments on the FTC Web site. More information, including routine uses permitted by the Privacy Act, may be found in the FTC's privacy policy, at http://www.ftc.gov/ftc/privacy.htm.

Comments on the proposed disclosure amendments, which are subject to review under the Paperwork Reduction Act, 44 U.S.C. 3501-3521, additionally should be submitted to the Office of Management and Budget (“OMB”). If sent by U.S. mail, they should be addressed to Office of Information and Regulatory Affairs, Office of Management and Budget, Attention: Desk Officer for the Federal Trade Commission, New Executive Office Building, Docket Library, Room 10102, 725 17th Street NW., Washington, DC 20503. Comments sent to OMB by U.S. mail, however, are subject to delays due to heightened security precautions. Thus, comments instead should be sent by facsimile to: (202) 395-5167.

By direction of the Commission.
Donald S. Clark,
Secretary.

[FR Doc. 2013-03341 Filed 2-13-13; 8:45 am]

BILLING CODE 6750-01-P